DEPARTMENT OF COMMERCE

National Oceanic and Atmospheric Administration

[I.D. 062700A]

South Atlantic Fishery Management Council; Public Meetings

AGENCY: National Marine Fisheries Service (NMFS), National Oceanic and Atmospheric Administration (NOAA), Commerce.

ACTION: Notice of public meetings.

SUMMARY: The South Atlantic Fishery Management Council will hold meetings of its Marine Reserves Advisory Panel (AP), Rock Shrimp AP, and Dolphin Wahoo AP in Charleston, South Carolina.

DATES: These meetings will be held July 26-August 3, 2000. See SUPPLEMENTARY INFORMATION for specific dates and times.

ADDRESSES: These meetings will be held at the Town and Country Inn, 2008 Savannah Highway, Charleston, SC 29407; telephone: 843-571-1000.

FOR FURTHER INFORMATION CONTACT: Kim Iverson, Public Information Officer; telephone: (843) 571-4366; fax: (843) 769-4520; email: kim.iverson@noaa.gov.

SUPPLEMENTARY INFORMATION: The meetings are scheduled as follows:

Wednesday, July 26, 2000, 8:30-5 p.m. and Thursday, July 27, 2000, 8:30-3 p.m.—-The Marine Reserves AP.

The Marine Reserves AP will meet to review comments received during the informal meeting and public scoping process and will discuss the advisory panel's recommendation as to which direction the Council should move regarding the use of marine reserves as a management tool.

Tuesday, August 1, 2000, 1:30-5 p.m. and Wednesday, August 2, 2000, 8 a.m.-12 noon—-The Rock Shrimp AP.

The Rock Shrimp AP will meet to review landings and permit information for the rock shrimp fishery and discuss issues and develop preliminary recommendations regarding development of a limited entry system for the fishery.

Wednesday, August 2, 2000, 1:30-5 p.m. and Thursday, August 3, 2000, 8 a.m.-12 noon—The Dolphin Wahoo AP.

The Dolphin Wahoo AP will meet to review public comments received during the public hearing and informal review process and provide the Council with panel member comments on the public hearing draft of the Dolphin and Wahoo Fishery Management Plan. The public comment period for this document ends on July 7, 2000.

Although non-emergency issues not contained in this agenda may come before the Council for discussion, in accordance with the Magnuson-Stevens Fishery Conservation and Management Act, these issues may not be the subject of formal Council action during these meetings. Council action will be restricted to those issues specifically listed in this notice and any issues arising after publication of this notice that require emergency action under section 305(c) of the Magnuson-Stevens Fishery Conservation and Management Act, provided the public has been notified of the Council's intent to take final actions to address such emergencies.

Special Accommodations

These meetings are physically accessible to people with disabilities. Requests for sign language interpretation or other auxiliary aids should be directed to the Council office (See ADDRESSES) by July 17, 2000.

Dated: June 27, 2000.
Richard W. Surdi,
Acting Director, Office of Sustainable Fisheries, National Marine Fisheries Service.

[FR Doc. 00-16636 Filed 6-29-00; 8:45 am]

BILLING CODE 3510-22-F